DEPARTMENT OF THE INTERIOR

National Park Service

National Park System Advisory Board; Meeting

AGENCY: National Park Service, Interior.

ACTION: Notice of meeting.

SUMMARY: Notice is hereby given in accordance with the Federal Advisory Commission Act that a meeting of the National Landmarks Committee of the National Park System Advisory Board will be held at 9 a.m. on the following date and at the following location.

DATES: November 9, 2000.

LOCATION: Room LL43; Lower Level; 800 North Capitol Street, NW., Washington, DC.

FOR FURTHER INFORMATION CONTACT: Patricia Henry, National Register, History, and Education (NC-400); National Park Service, 1849 C Street, NW; Washington, DC 20013-7127. Telephone (202) 343-8163.

SUPPLEMENTARY INFORMATION: The purpose of the meeting of the National Landmarks Committee of the National Park System Advisory Board is to evaluate nominations of historic properties in order to advise the full National Park System Advisory Board, meeting on November 16, 2000, of the qualifications of properties being proposed for National Historic Landmark (NHL) designation, and to recommend to the National Park System Advisory Board those properties that the Landmarks Committee finds meet the criteria for designation as National Historic Landmarks. The members of the National Landmarks Committee are:

Mr. Parker Westbrook, CHAIR

Ms. Marie Ridder

Dr. Allyson Brooks

Dr. Ian W. Brown

Mr. S. Allen Chambers, Jr.

Dr. Elizabeth Clark-Lewis

Mr. Jerry L. Rogers

Dr. Richard Guy Wilson

The meeting will include presentations and discussions on the national historic significance and the historic integrity of a number of properties being nominated for National Historic Landmark designation. The meeting will be open to the public. However, facilities and space for accommodating members of the public are limited. Any member of the public may file for consideration by the committee written comments concerning nominations and matters to be discussed pursuant to 36 CFR Part 65.

Comments should be submitted to Carol D. Shull, Chief, National Historic Landmarks Survey and Keeper of the National Register of Historic Places; National Register, History, and Education (NC-400); National Park Service; 1849 C Street, NW., Washington, DC 20240-7127.

The committee will consider the following nominations:

Alabama

Old Mobile Site

Arkansas

Daisy Bates House

California

Baldwin Hills Village

Fresno Sanitary Landfill

Colorado

Rocky Mountain National Park Administration Building

District of Columbia

Andrew Rankin Memorial Chapel, Frederick Douglass Memorial Hall, and Founders Library, Howard University

Indiana

First Christian Church

Mabel McDowell Elementary School

Louisiana

Magnolia Plantation

Oakland Plantation

Massachusetts

Cape Ann Light Station

Mississippi

Hester Site

Charles McLaran House

New York

Gerrit Smith Estate

North Carolina

Guilford Court House Battlefield

Wright Brothers National Memorial Visitor Center

Oklahoma

Bizzell Library, University of Oklahoma

Tennessee

Ryman Auditorium

Utah

Quarry Visitor Center

Vermont

Shelburne Farms

Wisconsin

Wisconsin State Capitol

The committee will consider the following boundary expansions:

California

Mendocino Woodlands National Recreation Demonstration Area

New York

Tubman Home for the Aged, Harriet Tubman Residence and Thompson A.M.E. Zion Church

The committee will consider the following documentation improvements:

Michigan

Mackinac Island

New Mexico

Palace of the Governors

The committee will consider the following property for withdrawal of its National Historic Landmark designation:

Pennsylvania

Charles B. Dudley House

The following property will be on the agenda if waivers to the 60-day notification period are received from the owner and the highest elected local official.

South Carolina

Charlesfort-Santa Elena Site

The committee will also consider the recommendations presented in the Draft Old Spanish Trail National Historic Trail Feasibility Study and Environmental Assessment, prepared under the auspices of Public Law 104-333.

Dated: October 20, 2000.
Beth Savage,
Acting Keeper of the National Register of Historic Places, National Park Service, Washington, DC.

[FR Doc. 00-27477 Filed 10-25-00; 8:45 am]

BILLING CODE 4310-70-P